FEDERAL COMMUNICATIONS COMMISSION

[GN Docket No. 18-122; DA 23-1132; FR ID 190109]

Wireless Telecommunications Bureau Adopts Final Deadlines for Submission of C-Band Reimbursement Claims

AGENCY: Federal Communications Commission.

ACTION: Notice.

SUMMARY: In this document, the Wireless Telecommunications Bureau (WTB or Bureau) adopts two final reimbursement claims submission deadlines by which eligible incumbents and other eligible stakeholders are required to submit any outstanding transition-related claims to the C-band Relocation Payment Clearinghouse (RPC) for processing as part of the ongoing transition of the 3.7-4.2 GHz band (C-band). On October 13, 2023, the Bureau issued a Public Notice seeking comment on certain proposals advanced by the RPC, AT&T, Verizon, and SES relating to the conclusion of the C-band transition reimbursement program and wind down of the RPC's operations. After review of the record, WTB adopts: February 5, 2024, as the submission deadline to the RPC for all reimbursement claims for costs incurred and paid by claimants as of December 31, 2023, including all lump sum election claims by incumbent earth station operators; and July 1, 2024, as the submission deadline to the RPC for all reimbursement claims for costs incurred and paid by claimants after December 31, 2023.

DATES: Applicable December 5, 2023.

ADDRESSES: Federal Communications Commission, 45 L St NE, Washington, DC 20554.

People with Disabilities. To request materials in accessible formats (braille, large print, electronic files, audio format) for people with disabilities, send an email to fcc504@fcc.gov or call the Consumer & Governmental Affairs Bureau at (202) 418-0530.

FOR FURTHER INFORMATION CONTACT: For additional information on this proceeding, contact Susan Mort of the Wireless Telecommunications Bureau, at (202) 418-2429 or Susan.Mort@fcc.gov.

SUPPLEMENTARY INFORMATION: This is a summary of the Public Notice, Wireless Telecommunications Bureau Adopts Final Deadlines for Submission of C-Band Reimbursement Claims, released on December 5, 2023. The full text of this document is available for public inspection online at https://www.fcc.gov/document/wtb-adopts-c-band-claim-deadlines.

1. With this Public Notice, the Wireless Telecommunications Bureau (WTB or Bureau) adopts two final reimbursement claims submission deadlines by which eligible incumbents and other eligible stakeholders are required to submit any outstanding transition-related claims to the C-band Relocation Payment Clearinghouse (RPC) for processing as part of the ongoing transition of the 3.7-4.2 GHz band (C-band). On October 13, 2023, the Bureau issued a Public Notice seeking comment on certain proposals advanced by the RPC, AT&T, Verizon, and SES relating to the conclusion of the C-band transition reimbursement program and wind down of the RPC's operations. After review of the record, WTB adopts: (1) February 5, 2024, as the submission deadline to the RPC for all reimbursement claims for costs incurred and paid by claimants as of December 31, 2023, including all lump sum election claims by incumbent earth station operators; and (2) July 1, 2024, as the submission deadline to the RPC for all reimbursement claims for costs incurred and paid by claimants after December 31, 2023. WTB defers action on other proposals as detailed below.

2. For the small number of anticipated claims that may be incurred and/or paid after July 1, 2024, whether a one-time or recurring cost, to be considered for reimbursement, the claimant must submit the claim(s) for RPC review through its Coupa portal and pursuant to its procedures before the July 1, 2024 deadline with the best supporting documentation and information available at that time. The Bureau directs the RPC and relevant claimants to coordinate in advance of the submission of such claims and, as appropriate, on a process and timeline for submitting any additional documentation that the RPC may deem necessary to evaluate the eligibility of such claims and safeguard against fraud, waste, or abuse. The Bureau strongly cautions claimants that all reimbursement claims, including the submission of any anticipated claims that have not been incurred and paid prior to July 1, 2024, remain subject to the RPC's review and approval, consistent with its delineated responsibilities and the standards articulated in the 3.7 GHz Report and Order, and that no inferences are intended nor should be taken about the eligibility of any claims for reimbursement as part of the C-band transition reimbursement program by virtue of their submission for RPC review. The Bureau also cautions claimants that the submission of anticipated claims in this manner should not be viewed or used as a means to circumvent the finality of the final claims submission deadlines. Anticipated claims submitted through these means should be as specific in nature as possible and not open-ended, and claimants must still demonstrate that such claims meet the eligibility criteria established by the Commission in the 3.7 GHz Report and Order in order to be reimbursed. That said, WTB believes that there is sufficient latitude as part of the normal discourse between the RPC and claimants in the claims review process, and as part of our appeals process, to allow for subsequently amended claims in appropriate circumstances where an initial claim was timely filed.

3. In addition, given that the RPC must complete its review of any such claims in the first instance, the Bureau believes that a waiver of sections 27.1415 or 27.1418(b)(2) of the Commission's rules, as suggested by Intelsat, is not necessary for any anticipated claims to be submitted to the RPC for review, nor would it be appropriate at this time as we decline to prejudge the merits of any individual future claims, particularly in the absence of any specific factual record on such claims before us at this juncture. To the extent that the relevant claimant and/or any 3.7 GHz Service Licensee(s) disagree with the RPC's initial determination on whether such claims are reimbursable, they may seek recourse from the RPC and the Bureau pursuant to our existing appeals procedures.

4. The Bureau reminds all C-band transition claimants and other eligible stakeholders must submit all reimbursement claims to the RPC, including for lump sum elections, by the relevant deadline as set forth above. So long as a reimbursement claim is submitted to the RPC through its Coupa portal and pursuant to its procedures and our above guidance by the relevant deadline, even if the RPC later finds upon review that additional information is needed from the claimant in order to process the claim, a claimant's submission of a claim through Coupa and pursuant to the RPC's procedures and our above guidance is sufficient to meet our deadline requirement. The Bureau directs the RPC to consider any claims which are not submitted in this manner by the relevant deadline as untimely, and the RPC need not process or reimburse such claims. To the extent there is any question about which claims submission deadline is the relevant one for any given reimbursement claim, the RPC will make the initial determination, subject to Bureau review on appeal pursuant to our established procedures.

5. In their ex parte, AT&T and Verizon requested that the Commission adopt certain deadlines to facilitate the conclusion of the C-band transition reimbursement process. The Bureau agrees that AT&T's and Verizon's proposals that the Commission specify when the RPC should issue a final funding request, set a deadline for the RPC to process all claims, and set a deadline for the RPC to finish its program audit are premature and, accordingly, the Bureau declines to make a determination on these proposals at this time. The Bureau likewise defers action on either a general or specific deadline by which the RPC must process individual reimbursement claims.

6. While WTB does not believe that adoption of either a general or specific deadline for RPC processing is appropriate at this time, and could inadvertently delay the review process to the extent the Bureau was called to resolve any timing disputes, WTB directs the RPC to continue expeditiously processing both pending and future reimbursement claims upon receipt of all required information from claimants, while maintaining all necessary safeguards to prevent fraud, waste, and abuse. The RPC should prioritize the processing of any residual pending claims submitted prior to the release of this Public Notice with the goal of resolution by March 30, 2024, and strive to resolve any later submitted claims within 90 days from submission. By the same token, claimants are instructed to ensure that their claims are timely submitted to the RPC with all required documentation, and to promptly respond to the RPC's requests for supplemental information, which in most cases should be no later than 30 days from any such request. To the extent that the claimant is not responsive to the RPC's requests for supplemental information in a timely manner, the RPC may process related claims on the basis of the information previously submitted by such claimant.

7. Finally, WTB declines to require any specific process measures that may unnecessarily limit the RPC in its ability to initially review claims or its duty to prevent fraud, waste, or abuse. WTB also clarifies that nothing in this Public Notice is intended to limit the RPC's ability to perform any necessary tasks to either: (1) recoup appropriate costs for the benefit of the C-band transition reimbursement program and the 3.7 GHz Service Licensees, such as through the sale of unused satellites; (2) as appropriate, perform true-ups, offsets, or other accounting practices relating to previously reimbursed claims based upon subsequent developments; and (3) evaluate and reconcile the 2% cap on soft costs as the reimbursement program winds down. The Bureau will continue to oversee the RPC's progress with a view towards facilitating the timely conclusion of the C-band transition reimbursement program and wind down of the RPC's operations, and encourage the RPC to tailor its operations over time as it continues to make progress in bringing this program to a successful resolution.

Federal Communications Commission.
Amy Brett,
Chief of Staff, Wireless Telecommunications Bureau.

[FR Doc. 2023-27244 Filed 12-13-23; 8:45 am]

BILLING CODE 6712-01-P